DEPARTMENT OF TRANSPORTATION

Federal Aviation Administration

14 CFR Part 97

[Docket No. 31100; Amdt. No. 3717]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 26, 2016. The compliance date for each SIAP, associated Takeoff Minimums, and ODP is specified in the amendatory provisions.

The incorporation by reference of certain publications listed in the regulations is approved by the Director of the Federal Register as of October 26, 2016.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979) ; and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on October 7, 2016.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 10 November 2016

Barter Island, AK, Barter Island, RNAV (GPS) RWY 7, Orig

Barter Island, AK, Barter Island, RNAV (GPS) RWY 7, Orig-C, CANCELED

Barter Island, AK, Barter Island, RNAV (GPS) RWY 25, Orig

Barter Island, AK, Barter Island, RNAV (GPS) RWY 25, Orig-C, CANCELED

Bethel, AK, Bethel, VOR/DME RWY 19R, Amdt 2C, CANCELED

Ketchikan, AK, Ketchikan Intl, ILS Y OR LOC Y RWY 11, Amdt 8

Ketchikan, AK, Ketchikan Intl, ILS Z OR LOC Z RWY 11, Amdt 1

Ketchikan, AK, Ketchikan Intl, LOC X RWY 11, Amdt 1

St George, AK, St George, Takeoff Minimums and Obstacle DP, Amdt 2

Auburn, AL, Auburn University Rgnl, ILS OR LOC RWY 36, Amdt 2C

Auburn, AL, Auburn University Rgnl, RNAV (GPS) RWY 11, Amdt 2

Auburn, AL, Auburn University Rgnl, RNAV (GPS) RWY 18, Amdt 2

Auburn, AL, Auburn University Rgnl, RNAV (GPS) RWY 29, Amdt 1C

Auburn, AL, Auburn University Rgnl, RNAV (GPS) RWY 36, Amdt 2C

Auburn, AL, Auburn University Rgnl, Takeoff Minimums and Obstacle DP, Amdt 1A

Auburn, AL, Auburn University Rgnl, VOR-A, Amdt 8B

Dothan, AL, Dothan Rgnl, RNAV (GPS) RWY 36, Amdt 2

Hot Springs, AR, Memorial Field, VOR Y RWY 5, Amdt 16B, CANCELED

Little Rock, AR, Bill and Hillary Clinton National/Adams Field, ILS OR LOC RWY 22R, ILS RWY 22R (SA CAT 1), ILS RWY 22R (CAT II), ILS RWY 22R (CAT III), Amdt 3

Springdale, AR, Springdale Muni, VOR RWY 18, Amdt 15D, CANCELED

St. Johns, AZ, St. Johns Industrial Airpark, Takeoff Minimums and Obstacle DP, Amdt 1B

Arcata/Eureka, CA, Arcata, VOR/DME RWY 1, Amdt 8A, CANCELED

Bishop, CA, Bishop, VOR/DME OR GPS-B, Amdt 4B, CANCELED

Brawley, CA, Brawley Muni, VOR/DME-A, Amdt 1B, CANCELED

Burbank, CA, Bob Hope, ILS Y OR LOC Y RWY 8, Amdt 6

Burbank, CA, Bob Hope, ILS Z OR LOC Z RWY 8, Amdt 39

Burbank, CA, Bob Hope, RNAV (GPS) Z RWY 8, Amdt 2

Burbank, CA, Bob Hope, RNAV (RNP) Y RWY 8, Amdt 2

Carlsbad, CA, Mc Clellan-Palomar, ILS OR LOC RWY 24, Amdt 9D

Carlsbad, CA, Mc Clellan-Palomar, RNAV (GPS) X RWY 24, Orig-C

Carlsbad, CA, Mc Clellan-Palomar, RNAV (GPS) Y RWY 6, Orig

Carlsbad, CA, Mc Clellan-Palomar, RNAV (GPS) Y RWY 24, Amdt 3C

Carlsbad, CA, Mc Clellan-Palomar, RNAV (RNP) Z RWY 6, Orig

Lodi, CA, Lodi, RNAV (GPS)-B, Orig-A

Los Angeles, CA, Los Angeles Intl, ILS OR LOC RWY 6L, Amdt 13

Los Angeles, CA, Los Angeles Intl, ILS OR LOC RWY 6R, Amdt 18

Los Angeles, CA, Los Angeles Intl, ILS OR LOC RWY 7L, Amdt 8

Los Angeles, CA, Los Angeles Intl, ILS OR LOC RWY 7R, Amdt 7

Los Angeles, CA, Los Angeles Intl, RNAV (GPS) Y RWY 6L, Amdt 2

Los Angeles, CA, Los Angeles Intl, RNAV (GPS) Y RWY 6R, Amdt 2

Los Angeles, CA, Los Angeles Intl, RNAV (GPS) Y RWY 7L, Amdt 3

Los Angeles, CA, Los Angeles Intl, RNAV (GPS) Y RWY 7R, Amdt 3

Los Angeles, CA, Los Angeles Intl, RNAV (RNP) Z RWY 6L, Amdt 1

Los Angeles, CA, Los Angeles Intl, RNAV (RNP) Z RWY 6R, Amdt 1

Los Angeles, CA, Los Angeles Intl, RNAV (RNP) Z RWY 7L, Amdt 1

Los Angeles, CA, Los Angeles Intl, RNAV (RNP) Z RWY 7R, Amdt 1

Los Banos, CA, Los Banos Muni, VOR/DME RWY 14, Amdt 5, CANCELED

Modesto, CA, Modesto City-Co-Harry Sham Fld, ILS OR LOC/DME RWY 28R, Amdt 14B

Sacramento, CA, Mc Clellan Airfield, ILS OR LOC RWY 16, Orig-E

Sacramento, CA, Mc Clellan Airfield, VOR/DME RWY 34, Orig-C

San Diego, CA, San Diego Intl, LOC RWY 27, Amdt 6

San Diego, CA, San Diego Intl, RNAV (GPS) Y RWY 27, Amdt 4

San Diego, CA, San Diego Intl, RNAV (RNP) Z RWY 27, Orig

Santa Monica, CA, Santa Monica Muni, VOR-A, Amdt 11

Van Nuys, CA, Van Nuys, VOR-B, Amdt 4

Denver, CO, Centennial, RNAV (GPS) RWY 35R, Orig

Denver, CO, Centennial, RNAV (GPS) Y RWY 35R, Amdt 2, CANCELED

Denver, CO, Centennial, RNAV (GPS) Z RWY 35R, Amdt 1, CANCELED

New Haven, CT, Tweed-New Haven, ILS OR LOC RWY 2, Amdt 17

New Haven, CT, Tweed-New Haven, RNAV (GPS) RWY 2, Amdt 1

New Haven, CT, Tweed-New Haven, RNAV (GPS) RWY 20, Orig

West Palm Beach, FL, North Palm Beach County General Aviation, RNAV (GPS) RWY 8R, Amdt 1

West Palm Beach, FL, North Palm Beach County General Aviation, RNAV (GPS) RWY 26L, Amdt 1

Atlanta, GA, Fulton County Airport—Brown Field, NDB RWY 8, Amdt 4A, CANCELED

Lawrenceville, GA, Gwinnett County—Briscoe Field, NDB RWY 25, Amdt 1B, CANCELED

Winder, GA, Northeast Georgia Rgnl, VOR/DME-A, Amdt 9E, CANCELED

Burlington, IA, Southeast Iowa Rgnl, ILS OR LOC RWY 36, Amdt 10B

Cedar Rapids, IA, The Eastern Iowa, VOR RWY 27, Amdt 13, CANCELED

Cedar Rapids, IA, The Eastern Iowa, VOR/DME RWY 9, Amdt 17A, CANCELED

Clarion, IA, Clarion Muni, NDB RWY 14, Amdt 4A

Fort Madison, IA, Fort Madison Muni, RNAV (GPS) RWY 17, Orig-A

Fort Madison, IA, Fort Madison Muni, RNAV (GPS) RWY 35, Orig-B

Fort Madison, IA, Fort Madison Muni, VOR/DME-A, Amdt 7A

Mason City, IA, Mason City Muni, ILS OR LOC RWY 36, Amdt 6F

Mason City, IA, Mason City Muni, LOC/DME BC RWY 18, Amdt 7B

Mason City, IA, Mason City Muni, VOR RWY 36, Amdt 6F

Mason City, IA, Mason City Muni, VOR/DME RWY 18, Amdt 5B, CANCELED

Muscatine, IA, Muscatine Muni, ILS OR LOC RWY 24, Amdt 1B

Spencer, IA, Spencer Muni, VOR/DME RWY 12, Amdt 3A, CANCELED

Waterloo, IA, Waterloo Rgnl, ILS OR LOC RWY 12, Amdt 9B

Boise, ID, Boise Air Terminal/Gowen Fld, VOR/DME RWY 10R, Amdt 1A, CANCELED

Burley, ID, Burley Muni, VOR/DME-B, Amdt 4D, CANCELED

Driggs, ID, Driggs-Reed Memorial, RNAV (GPS) RWY 4, Amdt 2

Driggs, ID, Driggs-Reed Memorial, RNAV (GPS)-A, Amdt 1

Pocatello, ID, Pocatello Rgnl, VOR/DME RWY 21, Amdt 10C, CANCELED

Chicago, IL, Chicago O'Hare Intl, ILS PRM RWY 28C, ILS PRM RWY 28C (SA CAT I), ILS PRM RWY 28C (CAT II), ILS PRM RWY 28C (CAT III) (CLOSE PARALLEL), Orig

Chicago, IL, Chicago O'Hare Intl, RNAV (GPS) PRM RWY 28C (CLOSE PARALLEL), Orig

Chicago, IL, Chicago O'Hare Intl, RNAV (GPS) PRM Y RWY 28L (CLOSE PARALLEL), Orig

Chicago, IL, Chicago O'Hare Intl, RNAV (GPS) Y RWY 28L, Orig

Chicago, IL, Chicago O'Hare Intl, RNAV (GPS) Z RWY 28L, Orig-A

Chicago/Aurora, IL, Aurora Muni, VOR RWY 15, Orig-B, CANCELED

Chicago/Aurora, IL, Aurora Muni, VOR RWY 33, Orig, CANCELED

Mount Vernon, IL, Mount Vernon, VOR RWY 23, Amdt 16A, CANCELED

Bloomington, IN, Monroe County, ILS OR LOC/DME RWY 35, Amdt 6B

Crawfordsville, IN, Crawfordsville Muni, NDB RWY 4, Amdt 6

Crawfordsville, IN, Crawfordsville Muni, RNAV (GPS) RWY 4, Amdt 1

Crawfordsville, IN, Crawfordsville Muni, RNAV (GPS) RWY 22, Amdt 1

Crawfordsville, IN, Crawfordsville Muni, Takeoff Minimums and Obstacle DP, Amdt 1

Evansville, IN, Evansville Rgnl, NDB RWY 22, Amdt 14A, CANCELED

Indianapolis, IN, Indianapolis Executive, VOR/DME RWY 36, Amdt 9B, CANCELED

Indianapolis, IN, Indianapolis Intl, ILS OR LOC RWY 5L, ILS RWY 5L (SA CAT I), ILS RWY 5L (CAT II), ILS RWY 5L (CAT III), Amdt 5

Indianapolis, IN, Indianapolis Intl, ILS OR LOC RWY 5R, ILS RWY 5R (CAT II), ILS RWY 5R (CAT III), Amdt 7

Indianapolis, IN, Indianapolis Intl, ILS OR LOC RWY 14, Amdt 7

Indianapolis, IN, Indianapolis Intl, ILS OR LOC RWY 23L, Amdt 7

Indianapolis, IN, Indianapolis Intl, ILS OR LOC RWY 23R, Amdt 5

Indianapolis, IN, Indianapolis Intl, ILS OR LOC RWY 32, Amdt 21

Indianapolis, IN, Indianapolis Intl, RNAV (GPS) Y RWY 5L, Amdt 4

Indianapolis, IN, Indianapolis Intl, RNAV (GPS) Y RWY 5R, Amdt 4

Indianapolis, IN, Indianapolis Intl, RNAV (GPS) Y RWY 14, Amdt 4

Indianapolis, IN, Indianapolis Intl, RNAV (GPS) Y RWY 23L, Amdt 4

Indianapolis, IN, Indianapolis Intl, RNAV (GPS) Y RWY 23R, Amdt 4

Indianapolis, IN, Indianapolis Intl, RNAV (GPS) Y RWY 32, Amdt 4

Indianapolis, IN, Indianapolis Intl, RNAV (RNP) Z RWY 5L, Amdt 2

Indianapolis, IN, Indianapolis Intl, RNAV (RNP) Z RWY 5R, Amdt 2

Indianapolis, IN, Indianapolis Intl, RNAV (RNP) Z RWY 14, Amdt 2

Indianapolis, IN, Indianapolis Intl, RNAV (RNP) Z RWY 23L, Amdt 2

Indianapolis, IN, Indianapolis Intl, RNAV (RNP) Z RWY 23R, Amdt 2

Indianapolis, IN, Indianapolis Intl, RNAV (RNP) Z RWY 32, Amdt 2

Indianapolis, IN, Indianapolis Metropolitan, VOR RWY 33, Amdt 10B

Indianapolis, IN, Indianapolis Rgnl, VOR RWY 34, Amdt 2C

Kokomo, IN, Kokomo Muni, VOR RWY 23, Amdt 20, CANCELED

Marion, IN, Marion Muni, VOR RWY 4, Amdt 13C, CANCELED

Marion, IN, Marion Muni, VOR RWY 22, Amdt 16A, CANCELED

Shelbyville, IN, Shelbyville Muni, RNAV (GPS) RWY 1, Amdt 1B

Shelbyville, IN, Shelbyville Muni, RNAV (GPS) RWY 19, Amdt 1B

Shelbyville, IN, Shelbyville Muni, VOR RWY 19, Amdt 1B

Baton Rouge, LA, Baton Rouge Metropolitan, Ryan Field, NDB RWY 31, Amdt 3, CANCELED

Baton Rouge, LA, Baton Rouge Metropolitan, Ryan Field, VOR/DME RWY 22R, Amdt 9A, CANCELED

Ruston, LA, Ruston Regional Airport, NDB RWY 36, Orig-A, CANCELED

Elkton, MD, Claremont, RNAV (GPS) RWY 13, Orig-C, CANCELED

Elkton, MD, Claremont, RNAV (GPS) RWY 31, Orig-D, CANCELED

Elkton, MD, Claremont, RNAV (GPS)-B, Orig

Stevensville, MD, Bay Bridge, Takeoff Minimums and Obstacle DP, Amdt 1

Augusta, ME, Augusta State, VOR/DME RWY 8, Amdt 12, CANCELED

Augusta, ME, Augusta State, VOR/DME RWY 17, Amdt 5, CANCELED

Detroit, MI, Detroit Metropolitan Wayne County, ILS OR LOC RWY 3R, ILS RWY 3R (SA CAT I), ILS RWY 3R (CAT II), ILS RWY 3R (CAT III), Amdt 17

Detroit, MI, Detroit Metropolitan Wayne County, ILS OR LOC RWY 4R, ILS RWY 4R (SA CAT I), ILS RWY 4R (CAT II), ILS RWY 4R (CAT III), Amdt 18

Detroit, MI, Detroit Metropolitan Wayne County, ILS OR LOC RWY 21L, ILS RWY 21L (SA CAT I), ILS RWY 21L (SA CAT II), Amdt 12

Detroit, MI, Detroit Metropolitan Wayne County, ILS OR LOC RWY 22L, ILS RWY 22L (SA CAT I), Amdt 31

Detroit, MI, Detroit Metropolitan Wayne County, ILS OR LOC RWY 27L, ILS RWY 27L (SA CAT I), ILS RWY 27L (SA CAT II), Amdt 5

Detroit, MI, Detroit Metropolitan Wayne County, ILS OR LOC RWY 27R, Amdt 13

Detroit, MI, Detroit Metropolitan Wayne County, ILS PRM RWY 3R, ILS PRM RWY 3R (SA CAT I), ILS PRM RWY 3R (CAT II), ILS PRM RWY 3R (CAT III), (SIMULTANEOUS CLOSE PARALLEL), Amdt 1, CANCELED

Detroit, MI, Detroit Metropolitan Wayne County, ILS PRM RWY 4R, ILS PRM RWY 4R (SA CAT I), ILS PRM RWY 4R (CAT II), ILS PRM RWY 4R (CAT III) (CLOSE PARALLEL), Amdt 2

Detroit, MI, Detroit Metropolitan Wayne County, ILS PRM RWY 21L (SIMULTANEOUS CLOSE PARALLEL), Orig-D, CANCELED

Detroit, MI, Detroit Metropolitan Wayne County, ILS PRM RWY 22L (CLOSE PARALLEL), Amdt 1

Detroit, MI, Detroit Metropolitan Wayne County, ILS PRM Y RWY 4L (CLOSE PARALLEL), Amdt 1

Detroit, MI, Detroit Metropolitan Wayne County, ILS PRM Y RWY 22R (CLOSE PARALLEL), Amdt 1

Detroit, MI, Detroit Metropolitan Wayne County, ILS Y RWY 4L, Amdt 1

Detroit, MI, Detroit Metropolitan Wayne County, ILS Y RWY 22R, Amdt 1

Detroit, MI, Detroit Metropolitan Wayne County, ILS Z OR LOC RWY 4L, ILS Z RWY 4L (CAT II), ILS Z RWY 4L (CAT III), Amdt 4

Detroit, MI, Detroit Metropolitan Wayne County, ILS Z OR LOC RWY 22R, ILS Z RWY 22R (SA CAT I), ILS Z RWY 22R (SA CAT II), Amdt 4

Detroit, MI, Detroit Metropolitan Wayne County, RNAV (GPS) RWY 3R, Amdt 3

Detroit, MI, Detroit Metropolitan Wayne County, RNAV (GPS) RWY 4L, Amdt 2A, CANCELED

Detroit, MI, Detroit Metropolitan Wayne County, RNAV (GPS) RWY 4R, Amdt 3

Detroit, MI, Detroit Metropolitan Wayne County, RNAV (GPS) RWY 21L, Amdt 3

Detroit, MI, Detroit Metropolitan Wayne County, RNAV (GPS) RWY 22L, Amdt 2

Detroit, MI, Detroit Metropolitan Wayne County, RNAV (GPS) RWY 22R, Amdt 2, CANCELED

Detroit, MI, Detroit Metropolitan Wayne County, RNAV (GPS) RWY 27L, Amdt 3

Detroit, MI, Detroit Metropolitan Wayne County, RNAV (GPS) RWY 27R, Amdt 3

Detroit, MI, Detroit Metropolitan Wayne County, RNAV (GPS) PRM RWY 4R (CLOSE PARALLEL), Orig

Detroit, MI, Detroit Metropolitan Wayne County, RNAV (GPS) PRM RWY 22L (CLOSE PARALLEL), Orig

Detroit, MI, Detroit Metropolitan Wayne County, RNAV (GPS) PRM Y RWY 4L (CLOSE PARALLEL), Orig

Detroit, MI, Detroit Metropolitan Wayne County, RNAV (GPS) PRM Y RWY 22R (CLOSE PARALLEL), Orig

Detroit, MI, Detroit Metropolitan Wayne County, RNAV (GPS) Y RWY 4L, Orig

Detroit, MI, Detroit Metropolitan Wayne County, RNAV (GPS) Y RWY 22R, Orig

Jackson, MI, Jackson County-Reynolds Field, VOR/DME RWY 24, Orig, CANCELED

Hawley, MN, Hawley Muni, RNAV (GPS) RWY 34, Orig-A

Hawley, MN, Hawley Muni, VOR/DME-A, Amdt 2A

Moorhead, MN, Moorhead Muni, RNAV (GPS) RWY 30, Amdt 1B

Moorhead, MN, Moorhead Muni, VOR-A, Amdt 1C

Cape Girardeau, MO, Cape Girardeau Rgnl, VOR RWY 10, Amdt 3B, CANCELED

Macon, MO, Macon-Fower Memorial, VOR/DME RWY 20, Amdt 2, CANCELED

St. Louis, MO, Spirit of St Louis, NDB RWY 8R, Amdt 11E, CANCELED

St. Louis, MO, Spirit of St Louis, NDB RWY 26L, Amdt 3A, CANCELED

Bozeman, MT, Bozeman Yellowstone Intl, VOR/DME RWY 12, Amdt 4B, CANCELED

Butte, MT, Bert Mooney, VOR/DME OR GPS-A, Amdt 3B, CANCELED

Livingston, MT, Mission Field, VOR-A, Amdt 5C, CANCELED

Sidney, MT, Sidney-Richland Muni, NDB RWY 1, Amdt 3, CANCELED

Fargo, ND, Hector Intl, ILS OR LOC RWY 18, Orig-C

Fargo, ND, Hector Intl, ILS OR LOC RWY 36, Amdt 1C

Fargo, ND, Hector Intl, VOR RWY 36, Orig-D

Kindred, ND, Robert Odegaard Field, RNAV (GPS) RWY 11, Amdt 1D

Kindred, ND, Robert Odegaard Field, RNAV (GPS) RWY 29, Amdt 1D

Tioga, ND, Tioga Muni, RNAV (GPS) RWY 12, Orig

Norfolk, NE., Karl Stefan Memorial, VOR RWY 1, Amdt 8, CANCELED

Wayne, NE., Wayne Muni, NDB RWY 23, Orig-B, CANCELED

Nashua, NH, Boire Field, NDB RWY 14, Orig-A, CANCELED

Elko, NV, Elko Rgnl, VOR-A, Amdt 6, CANCELED

Las Vegas, NV, Mc Carran Intl, Takeoff Minimums and Obstacle DP, Amdt 7

Dunkirk, NY, Chautauqua County/Dunkirk, VOR RWY 6, AMDT 3A, CANCELED

Columbus, OH, Bolton Field, RNAV (GPS) RWY 22, Orig

Steubenville, OH, Jefferson County Airpark, RNAV (GPS) RWY 14, Amdt 1

Steubenville, OH, Jefferson County Airpark, RNAV (GPS) RWY 32, Amdt 1

Steubenville, OH, Jefferson County Airpark, Takeoff Minimums and Obstacle DP, Amdt 2

Hugo, OK, Stan Stamper Muni, NDB OR GPS RWY 35, Amdt 1A, CANCELED

Hugo, OK, Stan Stamper Muni, RNAV (GPS) RWY 17, Orig

Hugo, OK, Stan Stamper Muni, RNAV (GPS) RWY 35, Orig

Tulsa, OK, Richard Lloyd Jones Jr, VOR RWY 1L, Amdt 4D, CANCELED

Corvallis, OR, Corvallis Muni, RNAV (GPS) RWY 35, Amdt 2

Scappoose, OR, Scappoose Industrial Airpark, Takeoff Minimums and Obstacle DP, Amdt 1A

Pittsburgh, PA, Pittsburgh Intl, ILS OR LOC RWY 10R, ILS RWY 10R (SA CAT I), ILS RWY 10R (CAT II), ILS RWY 10R (CAT III), Amdt 10F

Huntingdon, TN, Carroll County, NDB RWY 1, Amdt 2, CANCELED

Dallas, TX, Dallas Love Field, ILS Y OR LOC Y RWY 13R, Amdt 6

Dallas, TX, Dallas Love Field, RNAV (GPS) Z RWY 13R, Amdt 2

Houston, TX, Lone Star Executive, ILS OR LOC RWY 14, Amdt 3A

Houston, TX, Lone Star Executive, NDB RWY 14, Amdt 3A

Houston, TX, William P Hobby, ILS OR LOC RWY 13R, Amdt 12C

Houston, TX, William P Hobby, ILS OR LOC RWY 31L, Amdt 6C

Houston, TX, William P Hobby, RNAV (GPS) RWY 13R, Amdt 1C

Houston, TX, William P Hobby, RNAV (GPS) RWY 31L, Amdt 2C

Houston, TX, William P Hobby, Takeoff Minimums and Obstacle DP, Amdt 6B

Mineral Wells, TX, Mineral Wells, GPS RWY 31, Orig-B, CANCELED

Mineral Wells, TX, Mineral Wells, ILS OR LOC RWY 31, Amdt 1

Mineral Wells, TX, Mineral Wells, RNAV (GPS) RWY 31, Orig

Navasota, TX, Navasota Muni, VOR-A, Amdt 2B

Sherman/Denison, TX, North Texas Rgnl/Perrin Field, NDB RWY 17L, Amdt 10A, CANCELED

Temple, TX, Draughon-Miller Central Texas Rgnl, VOR RWY 15, Amdt 18, CANCELED

Roosevelt, UT, Roosevelt Muni, RNAV (GPS) RWY 25, Amdt 1

Roosevelt, UT, Roosevelt Muni, Takeoff Minimums and Obstacle DP, Amdt 2

Roosevelt, UT, Roosevelt Muni, VOR-A, Amdt 4

Danville, VA, Danville Regional, VOR RWY 2, Amdt 14A, CANCELED

Dublin, VA, New River Valley, VOR-A, Amdt 9, CANCELED

Roanoke, VA, Roanoke Rgnl/Woodrum Field, VOR RWY 34, Amdt 1C, CANCELED

Ephrata, WA, Ephrata Muni, RNAV (GPS) RWY 3, Orig-A

Everett, WA, Snohomish County (Paine Fld), VOR RWY 16R, Orig-A, CANCELED

Eau Claire, WI, Chippewa Valley Rgnl, LOC BC RWY 4, Amdt 10

Eau Claire, WI, Chippewa Valley Rgnl, RNAV (GPS) RWY 4, Amdt 1

Madison, WI, Dane County Rgnl-Truax Field, VOR/DME OR TACAN RWY 14, Orig-D, CANCELED

Madison, WI, Dane County Rgnl-Truax Field, VOR/DME OR TACAN RWY 18, Amdt 1D, CANCELED

Madison, WI, Dane County Rgnl-Truax Field, VOR/DME OR TACAN RWY 32, Orig-C, CANCELED

Lewisburg, WV, Greenbrier Valley, VOR RWY 4, Amdt 2, CANCELED

Casper, WY, Casper/Natrona County Intl, VOR/DME RWY 3, Amdt 6C, CANCELED

Evanston, WY, Evanston-Uinta County Burns Field, VOR/DME RWY 23, Amdt 1, CANCELED

Rescinded: On September 30, 2016 (81 FR 67105), the FAA published an Amendment in Docket No. 31094, Amdt No. 3711 to Part 97 of the Federal Aviation Regulations under section 97.23. The following entry, effective November 10, 2016, is hereby rescinded in its entirety:

Butte, MT, Bert Mooney, VOR OR GPS-B, Amdt 1C

[FR Doc. 2016-25782 Filed 10-25-16; 8:45 am]

BILLING CODE 4910-13-P